DEPARTMENT OF COMMERCE

National Oceanic and Atmospheric Administration

RIN 0648-XC181

Fisheries of the South Atlantic and Gulf of Mexico; South Atlantic Fishery Management Council (SAFMC); Public Meeting

AGENCY: National Marine Fisheries Service (NMFS), National Oceanic and Atmospheric Administration (NOAA), Commerce.

ACTION: Notice of public meeting.

SUMMARY: The SAFMC will hold a meeting of its Social and Economic Sciences Sub-Panel (SEP) to review and discuss the following items: Fishery Management Plan (FMP) amendments under development and allocation approaches. The meeting will be held in North Charleston, SC.

DATES: The meeting will be held October 22, 2012, from 1 p.m. to 6 p.m.

ADDRESSES: The meeting will be held at the Crowne Plaza, 4831 Tanger Outlet Boulevard, North Charleston, SC 29418; telephone: (843) 744-4422.

FOR FURTHER INFORMATION CONTACT: Kim Iverson, Public Information Officer, 4055 Faber Place Drive, Suite 201, North Charleston, SC 29405; telephone: (843) 571-4366; email: Kim.Iverson@safmc.net.

SUPPLEMENTARY INFORMATION: The SAFMC SEP is a sub-panel that addresses social and economic science and reports to the Scientific and Statistical Committee (SSC). Under the Reauthorized Magnuson-Stevens Fishery Conservation and Management Act, the SSC is the body responsible for reviewing the Council's scientific materials. The SEP will discuss amendments under development and allocation approaches. The SEP will provide a report to the SSC for consideration.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to the Council office (see ADDRESSES) at least three (3) business days prior to the meeting.

Dated: September 20, 2012.
Tracey L. Thompson,
Acting Deputy Director, Office of Sustainable Fisheries, National Marine Fisheries Service.

[FR Doc. 2012-23547 Filed 9-24-12; 8:45 am]

BILLING CODE 3510-22-P